DEPARTMENT OF ENERGY

Federal Energy Regulatory Commission

Notice of Intent To File an Application for New License

March 11, 2004.

a. Type of Filing: Notice of intent to file an application for a new license.

b. Project No.: 2232.

c. Date Filed: July 21, 2003.

d. Submitted by: Duke Power—current licensee.

e. Name of Project: Catawba-Wateree Hydroelectric Project.

f. Location: On the Catawba River, in Alexander, Burke, Caldwell, Catawba, Gaston, Iredell, Lincoln, McDowell, and Mecklenburg Counties, North Carolina; and on the Catawba and Wateree Rivers in the counties of Chester, Fairfield, Kershaw, Lancaster, and York, South Carolina.

g. Filed Pursuant to: Section 15 of the Federal Power Act.

h. Licensee Contact: E. Mark Oakley, Catawba-Wateree Relicensing Project Manager, Duke Power, Mail Code EC12Y, P.O. Box 1006, Charlotte, NC 28201-1006.

i. FERC Contact: Ron McKitrick at 770-452-3778; Ronald.McKitrick@ferc.gov.

j. Effective Date of Current License: September 1, 1958.

k. Expiration Date of Current License: August 31, 2008.

l. Description of the Project: The project comprises 11 developments.

(1) The Bridgewater development consists of the following existing facilities: (1) The Catawba dam consisting of: (a) A 120 foot-high, 3,155 foot-long earth embankment; (b) a 305 foot-long concrete gravity ogee spillway; (2) the Paddy Creek dam consisting of: A 165 foot-high, 1,610 foot-long earth embankment; (3) the 430 foot-long Paddy Creek-Linville spillway; (4) the Linville dam consisting of: A 160 foot-high, 1,325 foot-long earth embankment (5) a 6,577 acre reservoir formed by Catawba, Paddy Creek, and Linville at a normal water surface elevation of 1,200 feet above msl; (6) a 900 foot-long concrete-lined intake tunnel/penstock; (7) a powerhouse containing two vertical Francis-type turbines directly connected to two generators, each rated at 10,000 kW, for a total installed capacity of 20.0 MW; and (8) other appurtenances.

(2) The Rhodhiss development consists of the following existing facilities: (1) A 72 foot-high, 1,517 foot-long earth embankment; (2) a 800 foot-long concrete gravity ogee spillway; (3) a 3,021 acre reservoir at a normal water surface elevation of 995.1 feet above msl; (4) a powerhouse containing three vertical Francis-type turbines directly connected to three generators, two rated at 12,350 kW, one rated at 8,500 kW for a total installed capacity of 26.2 MW; and (5) other appurtenances.

(3) The Oxford development consists of the following existing facilities: (1) A 133 foot-high, 1,336 foot-long earth embankment; (2) a 550 foot-long concrete gravity ogee spillway; (3) a 3,941 acre reservoir at a normal water surface elevation of 935 feet above msl; (4) a powerhouse containing two vertical Francis-type turbines directly connected to two generators, each rated at 18,000 kW for a total installed capacity of 36.0 MW; and (5) other appurtenances.

(4) The Lookout Shoals development consists of the following existing facilities: (1) A 78 foot-high, 2,731 foot-long earth embankment; (2) a 933 foot-long concrete gravity ogee spillway; (3) a 1,208 acre reservoir at a normal water surface elevation of 838.1 feet above msl; (4) a powerhouse containing three main vertical Francis-type turbines and two smaller vertical Francis-type turbines directly connected to five generators, the three main generators rated at 8,970 kW, and the two smaller rated at 450 kW for a total installed capacity of 27.1 MW; and (5) other appurtenances.

(5) The Cowans Ford development consists of the following existing facilities: (1) A 130 foot-high, 8,738 foot-long earth embankment; (2) a 465 foot-long concrete gravity ogee spillway; (3) a 31,984 acre reservoir at a normal water surface elevation of 760 feet above msl; (4) a powerhouse containing four vertical Kaplan-type turbines directly connected to four generators rated at 83,125 kW for a total installed capacity of 285 MW; and (5) other appurtenances.

(6) The Mountain Island development consists of the following existing facilities: (1) A 140 foot-high, 2,375 foot-long earth embankment; (2) a 997 foot-long concrete gravity ogee spillway; (3) a 2,914 acre reservoir at a normal water surface elevation of 647.5 feet above msl; (4) a powerhouse containing four vertical Francis-type turbines directly connected to four generators rated at 15,000 kW for a total installed capacity of 60.0 MW; and (5) other appurtenances.

(7) The Wylie development consists of the following existing facilities: (1) A 120 foot-high, 3,155 foot-long earth embankment; (2) a 793 foot-long concrete gravity ogee spillway; (3) a 12,149 acre reservoir at a normal water surface elevation of 569.4 feet above msl; (4) a powerhouse containing four vertical Francis-type turbines directly connected to four generators rated at 18,000 kW for a total installed capacity of 67.3 MW; and (5) other appurtenances.

(8) The Fishing Creek development consists of the following existing facilities: (1) A 97 foot-high, 1,770 foot-long concrete embankment; (2) a 1,210 foot-long concrete gravity ogee spillway; (3) a 3,191 acre reservoir at a normal water surface elevation of 417.2 feet above msl; (4) a powerhouse containing five vertical Francis-type turbines directly connected to five generators two rated at 10,530 kW and three rated at 9,450 kW for a total installed capacity of 48.1 MW; and (5) other appurtenances.

(9) The Great Falls-Dearborn development consists of the following existing facilities: (1) The Great Falls dam consisting of a 103 foot-high, 675 foot-long concrete embankment; (2) the Dearborn dam consisting of a 103 foot-high, 160 foot-long concrete embankment; (3) a 1,500 foot-long concrete gravity ogee spillway; (4) a 354 acre reservoir at a normal water surface elevation of 355.8 feet above msl; (5) two powerhouses consisting of: (A) Great Falls: Containing eight horizontal Francis-type turbines directly connected to eight generators rated at 3,000 kW for an installed capacity of 24.0 MW, and (B) Dearborn: Containing three vertical Francis-type turbines directly connected to three generators rated at 15,000 kW for an installed capacity of 43.7 MW, for a total installed capacity of 67.7 MW; and (6) other appurtenances.

(10) The Rocky Creek-Cedar Creek development consists of the following existing facilities: (1) The consisting of a 69 foot-high, 1,025 foot-long earth embankment; (2) a 213 foot-long by 808 foot-long bounded by 130 foot-long U-shaped concrete gravity ogee spillway; (3) a 666 acre reservoir at a normal water surface elevation of 284.4 feet above msl; (4) two powerhouses consisting of: (A) Rocky Creek: Containing eight horizontal twin-runner Francis-type turbines directly connected to eight generators, six rated at 3,000 kW and two rated at 4,500 kW for an installed capacity of 25.8 MW, and (B) Cedar Creek: Containing three vertical Francis-type turbines directly connected to three generators, 1 rated at 15,000 kW, and two rated at 18,000 kW for an installed capacity of 44.3 MW, for a total installed capacity of 70.1 MW; and (5) other appurtenances.

(11) The Wateree development consists of the following existing facilities: (1) A 76 foot-high, 1,753 foot-long earth embankment; (2) a 1,450 foot-long concrete gravity ogee spillway; (3) a 12,891 acre reservoir at a normal water surface elevation of 225.5 feet above msl; (4) a powerhouse containing five vertical Francis-type turbines directly connected to five generators, two rated at 17,100 kW and three rated at 18,050 kW for a total installed capacity of 82.0 MW; and (5) other appurtenances.

m. Each application for a new license and any competing license applications must be filed with the Commission at least 24 months prior to the expiration of the existing license. All applications for license for this project must be filed by August 31, 2006.

n. A copy of this filing is available for review at the Commission in the Public Reference Room or may be viewed on the Commission's Web site at http://www.ferc.gov using the “FERRIS” link. Enter the docket number to access the document excluding the last three digits in the docket number field to access the document. For assistance, contact FERC Online Support at FERCOnlineSupport@ferc.gov or toll-free at 1-866-208-3676, or TTY 202-502-8659. A copy is also available for inspection and reproduction at the address in item h above.

o. Register online at http://www.ferc.gov/esubscribenow.htm to be notified via e-mail of new filings and issuances related to this or other pending projects. For assistance, contact FERC Online Support as shown in the paragraph above.

Magalie R. Salas,
Secretary.

[FR Doc. E4-624 Filed 3-18-04; 8:45 am]

BILLING CODE 6717-01-P